ENVIRONMENTAL PROTECTION AGENCY

[OPP-2002-0064; FRL-7177-6]

Organophosphate Pesticides; Methidathion, Availability of Interim Reregistration Eligibility Decision Document

AGENCY: Environmental Protection Agency (EPA).

ACTION: Notice.

SUMMARY: This notice announces the availability of the Interim Registration Eligibility Decision (interim RED) document for the organophosphate pesticide (OP), methidathion. This interim decision was developed as part of the OP pilot public participation process that the EPA and the United States Department of Agriculture (USDA) are now using for involving the public in the reassessment of pesticide tolerances under the Food Quality Protection Act (FQPA) and the reregistration of individual OPs under the Federal Insecticide, Fungicide and Rodenticide Act (FIFRA).

DATES: The interim RED document for methidathion is currently available in the OP Public Regulatory Docket under docket control number OPP-2002-0064.

FOR FURTHER INFORMATION CONTACT: Carmen Rodia, Chemical Review Manager, Special Review and Reregistration Division (7508C), Office of Pesticide Programs, Environmental Protection Agency, 1200 Pennsylvania Ave., NW., Washington, DC 20460; telephone number: (703) 306-0327; e-mail address: rodia.carmen@epa.gov.

SUPPLEMENTARY INFORMATION

I. General Information

A. Does this Action Apply to Me?

This action is directed to the public in general, nevertheless, a wide range of stakeholders will be interested in obtaining the interim decision documents for methidathion, including environmental, human health and agricultural advocates; the chemical industry; pesticide users; and members of the public interested in the use of pesticides on food. Since other entities also may be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. On the Home Page select “Laws and Regulations,” “Regulations and Proposed Rules,” and then look up the entry for this document under the “Federal Register—Environmental Documents.” You can also go directly to the Federal Register listings at http://www.epa.gov/fedrgstr/. In addition, copies of the methidathion interim risk management decision documents released to the public may also be accessed at http://www.epa.gov/pesticides/reregistration/status.htm.

2. In person. The Agency has established an official record for this action under docket control number OPP-2002-0064. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Room 119, Crystal Mall #2, 1921 Jefferson Davis Highway, Arlington, VA 22202-4501, from 8:30 a.m. to 4:00 p.m., Monday through Friday, excluding legal holidays. The PIRIB telephone number is (703) 305-5805.

II. What Action is the Agency Taking?

EPA has assessed the risks of methidathion and reached an Interim Reregistration Eligibility Decision (interim RED) for this OP. Provided that risk mitigation measures are adopted, methidathion fits into its own risk cup-its individual, aggregate risks are within acceptable levels. Methidathion is also eligible for reregistration, pending a full reassessment of the cumulative risk from all OP pesticides. Used on a variety of agricultural crops, predominantly alfalfa, citrus, and cotton, methidathion residues in food and drinking water do not pose risk concerns. Methidathion has no residential uses. EPA considered the mitigation proposal submitted by the technical registrant, as well as comments and mitigation ideas from other interested parties, and has decided on a number of label amendments (restrictions) to mitigate risks of concern posed by the uses of methidathion. With the implementation of these mitigation measures, methidathion's worker and ecological risks also will be below levels of concern for reregistration.

The methidathion interim RED was made through the OP pesticide pilot public participation process, which increases transparency and maximizes stakeholder involvement in EPA's development of risk assessments and risk management decisions. The pilot public participation process was developed as part of the EPA/USDA Tolerance Reassessment Advisory Committee, which was established in April 1998, as a subcommittee under the auspices of EPA's National Advisory Council for Environmental Policy and Technology. A goal of the pilot public participation process is to find a more effective way for the public to participate at critical junctures in the Agency's development of OP pesticide risk assessments and risk management decisions. EPA and USDA began implementing this pilot process in August 1998, to increase transparency and opportunities for stakeholder consultation.

EPA worked extensively with affected parties to reach the decisions presented in the interim RED, which concludes the pilot public participation process for methidathion. As part of the pilot public participation process, numerous opportunities for public comment were offered as the interim RED was being developed. The methidathion interim RED is issued in final, without a formal public comment period. The OP Public Regulatory Docket remains open; however, and any comments submitted in the future will be placed in the docket.

The revised risk assessments for methidathion were released to the public through a notice published in the Federal Register of December 8, 1999 (OPP-34213), (FRL-6399-2).

EPA's next step under the FQPA is to consider available information on the basis of cumulative risk encompassing all of the OP pesticides, sharing a common mechanism of toxicity. The tolerance reassessment decision for methidathion cannot be considered final until the cumulative risks for all of the OPs is considered. The Agency may need to pursue further risk management measures at that time.

List of Subjects

Environmental protection, chemicals, insecticides, acaricides, Pesticides and pests.

Dated: May 6, 2002.
Lois Rossi,
Director Special Review and Reregistration Division, Office of Pesticide Programs.

[FR Doc. 02-12009 Filed 5-14-02; 8:45 am]

BILLING CODE 6560-50-S